DEPARTMENT OF COMMERCE

National Oceanic and Atmospheric Administration

50 CFR Part 660

[Docket No. 020430101-2101-01; I.D. 082503A]

Fisheries Off West Coast States and in the Western Pacific; West Coast Salmon Fisheries; Inseason Action #3 - Closure and Reopening of the Recreational Fishery from Cape Falcon, Oregon to Humbug Mountain, Oregon

AGENCY: National Marine Fisheries Service (NMFS), National Oceanic and Atmospheric Administration (NOAA), Commerce.

ACTION: Adjustment; request for comments.

SUMMARY: NMFS announces that the recreational selective fishery for marked hatchery coho salmon in the area from Cape Falcon, OR to Humbug Mountain, OR, was closed at midnight on August 19, 2003. The Northwest Regional Administrator, NMFS (Regional Administrator), determined that the quota of 88,000 marked hatchery coho had been reached. The recreational fishery for all salmon except coho then reopened on August 20, 2003, as scheduled in the 2003 annual management measures. This action was necessary to conform to the 2003 management goals.

DATES: Closure of the selective fishery for marked hatchery coho in the area from Cape Falcon to Humbug Mountain effective 2359 hours local time (l.t.), August 19, 2003, until the effective dates of the 2004 management measures, which will be published in the Federal Register for the West Coast salmon fisheries. Reopening the recreational fishery for all salmon except coho in the area from Cape Falcon to Humbug Mountain effective 0001 hours l.t., August 20, 2003 through October 31, 2003. Comments will be accepted through September 29, 2003.

ADDRESSES: Comments on this action must be mailed to D. Robert Lohn, Regional Administrator, Northwest Region, NMFS, NOAA, 7600 Sand Point Way N.E., Bldg. 1, Seattle, WA 98115-0070; or faxed to 206-526-6376; or Rod McInnis, Acting Regional Administrator, Southwest Region, NMFS, NOAA, 501 W. Ocean Blvd., Suite 4200, Long Beach, CA 90802-4132; or faxed to 562-980-4018. Comments will not be accepted if submitted via e-mail or the Internet. Information relevant to this document is available for public review during business hours at the Office of the Regional Administrator, Northwest Region, NMFS.

FOR FURTHER INFORMATION CONTACT: Christopher Wright, 206-526-6140.

SUPPLEMENTARY INFORMATION: The Regional Administrator closed the recreational selective fishery for coho in the area from Cape Falcon, OR to Humbug Mountain, OR effective at midnight on Tuesday, August 19, 2003. Information provided on August 14, 2003, estimated that the quota of 88,000 marked coho salmon would be reached by August 19, 2003. Automatic season closures based on quotas are authorized by regulations at 50 CFR 660.409(a)(1). The recreational fishery for all salmon except coho reopened on August 20, 2003, as scheduled in the 2003 annual management measures.

In the 2003 annual management measures for ocean salmon fisheries (68 FR 23913, May 6, 2003), NMFS announced that the recreational selective fishery for marked hatchery coho in the area from Cape Falcon, OR to Humbug Mountain, OR would open on June 21 through the earlier of August 24 or the attainment of a 88,000-marked coho quota, and the all salmon except coho season would then reopen the earlier of August 25 or the attainment of the marked hatchery coho quota.

On August 14, 2003, the Regional Administrator consulted with representatives of the Pacific Fishery Management Council and Oregon Department of Fish and Wildlife (ODFW) by conference call. Information related to catch to date, the coho catch rate, and effort data indicated that it was likely that the quota would be reached by August 19, 2003. As a result, the State of Oregon recommended, and the Regional Administrator concurred, that the recreational selective fishery for marked hatchery coho in the area from Cape Falcon, OR to Humbug Mountain, OR close effective at midnight on Tuesday, August 19, 2003, with the all salmon except coho fishery reopening on August 20, 2003. All other regulations that apply to this fishery remain in effect as announced in the 2003 annual management measures and subsequent inseason actions.

The Regional Administrator determined that the best available information indicated that the catch and effort data, and projections, supported the above inseason action recommended by the ODFW. The states manage the fisheries in state waters adjacent to the areas of the U.S. exclusive economic zone in accordance with this Federal action. As provided by the inseason notice procedures of 50 CFR 660.411, actual notice to fishers of the above described action was given prior to the effective date by telephone hotline number 206-526-6667 and 800-662-9825, and by U.S. Coast Guard Notice to Mariners broadcasts on Channel 16 VHF-FM and 2182 kHz.

This action does not apply to other fisheries that may be operating in other areas.

Classification

The Assistant Administrator for Fisheries, NOAA (AA), finds that good cause exists for this notification to be issued without affording prior notice and opportunity for public comment under 5 U.S.C. 553(b)(B) because such notification would be impracticable. As previously noted, actual notice of this action was provided to fishers through telephone hotline and radio notification. This action complies with the requirements of the annual management measures for ocean salmon fisheries (68 FR 23913, May 6, 2003), the West Coast Salmon Plan, and regulations implementing the West Coast Salmon Plan 50 CFR 660.409 and 660.411. Prior notice and opportunity for public comment was impracticable because NMFS and the state agencies have insufficient time to provide for prior notice and the opportunity for public comment between the time the fishery catch and effort data are collected to determine the extent of the fisheries, and the time the fishery closure must be implemented to avoid exceeding the quota. Failure to close the fishery upon attainment of the quota would allow the quota to be exceeded, resulting in fewer spawning fish and possibly reduced yield of the stocks in the future. For the same reasons, the AA also finds good cause to waive the 30-day delay in effectiveness required under U.S.C. 553(d)(3).

This action is authorized by 50 CFR 660.409 and 660.411 and is exempt from review under Executive Order 12866.

Authority: 16 U.S.C. 1801 et seq.

Dated: August 28, 2003.
John H.Dunnigan,
Director, Office of Sustainable Fisheries, National Marine Fisheries Service.

[FR Doc. 03-23204 Filed 9-11-03; 8:45 am]

BILLING CODE 3510-22-S